DEPARTMENT OF HOMELAND SECURITY

Coast Guard

[Docket No. USCG-2014-0013]

Lower Mississippi River Waterway Safety Advisory Committee; Meeting

AGENCY: Coast Guard, DHS.

ACTION: Notice of meeting.

SUMMARY: The Lower Mississippi River Waterway Safety Advisory Committee will meet on Wednesday, April 23, 2014 in New Orleans to discuss topics relating to navigational safety on the Lower Mississippi River. This meeting will be open to the public.

DATES: The Committee will meet on Wednesday, April 23, 2014, from 9:00 a.m. to 12:00 p.m. This meeting may close early if all business is finished. All submitted written materials, comments, and requests to make oral presentations at the meeting should reach Lieutenant Junior Grade Colin Marquis, Alternate Designated Federal Officer (ADFO) for LMRWSAC, no later than April 16, 2014. For contact information, please see the FOR FURTHER INFORMATION CONTACT section below. Any written material submitted by the public will be distributed to the Committee and become part of the public record.

ADDRESSES: The Committee will meet at the Sector New Orleans Building, 200 Hendee Street, New Orleans, Louisiana 70114, First Floor, Training Room “A.” Please be advised all attendees will be required to provide identification in the form of a government-issued picture identification card in order to gain admittance to the building.

For information on facilities or services for individuals with disabilities or to request special assistance, contact the individual listed in the FOR FURTHER INFORMATION CONTACT section, as soon as possible.

To facilitate public participation, we are inviting public comment on the issues to be considered by the committee as listed in the “Meeting Agenda” section below. Written comments must be submitted on or before April 16, 2014, must be identified by Docket No. USCG-2014-0013 and may be submitted by one of the following methods:

• Federal Rulemaking Portal: http://www.regulations.gov Follow the instructions for submitting comments (this is the preferred method to avoid delays in processing).

• Mail: Docket Management Facility (M-30), U.S. Department of Transportation, West Building Ground Floor, Room W12-140, 1200 New Jersey Avenue SE., Washington, D.C. 20590-0001. We encourage use of electronic submissions because security screening may delay the delivery of mail.

• Fax: 202-493-2251.

• Hand Delivery: Same as mail address above, between 9:00 a.m. and 5:00 p.m., Monday through Friday, except during Federal holidays. The telephone number is 202-366-9329.

• To avoid duplication, please use only one of these methods.

Instruction: All submissions received must include the words “Department Of Homeland Security” and the docket number of this notice. All comments submitted will be posted without alteration at http://www.regulations.gov including any personal information provided. You may review a Privacy Act notice regarding our public dockets in the January 17, 2008 issue of the Federal Register (73 FR 3316).

Docket: For access to the docket or to read documents or comments related to this notice, go to http://www/regulations.gov, insert USCG-2014-0013 in the Search box, press Enter, and then click on the item you wish to view.

FOR FURTHER INFORMATION CONTACT: Lieutenant Junior Grade Colin Marquis, ADFO for Lower Mississippi River Waterway Safety Advisory Committee, telephone: 504-365-2284, fax: 504-365-2287 or email: Colin.L.Marquis@uscg.mil. If you have any questions on viewing or submitting material to the docket, call Cheryl Collins, Program Manager, Docket Operations, telephone: 202-366-9826.

SUPPLEMENTARY INFORMATION: Notice of this meeting is given under the Federal Advisory Committee Act (FACA), 5 U.S.C. Appendix 2 (Pub. L. 92-463). The LMRWSAC is an advisory committee authorized in Section 19 of the Coast Guard Authorization Act of 1991, (Pub. L. 102-241), as amended by section 621(d) of the Coast Guard Authorization Act of 2010, (Pub. L. 111-281) and chartered under the provisions of FACA. LMRWSAC provides advice and recommendations to the Department of Homeland Security (DHS) on matters relating to communications, surveillance, traffic management, anchorages, development and operation of the New Orleans Vessel Traffic Service, and other related topics dealing with navigation safety on the Lower Mississippi River as required by the U.S. Coast Guard (USCG).

Meeting Agenda

The agenda for the April 23, 2014 Committee meeting is as follows:

(1) Opening Remarks.

(2) Introduction of committee members and guests.

(3) Approval of the March, 2011 minutes.

(4) Agency Updates:

(a) Coast Guard

i. Discussion and update on status of Regulated Navigation Area (RNA); Gulf Intracoastal Waterway, Inner Harbor Navigation Canal, Harvey Canal, Algiers Canal, New Orleans, LA published in the Federal Register, Vol. 75, page 32279 (75 FR 32279), on June 8, 2010, Docket No. USCG-2009-0139.

ii. Discussion and update on District Eight Aids to Navigation initiatives and Navigation 2025, a program aimed toward modernizing visual aids to navigation systems by taking into account the technological advances made in electronic navigation.

iii. Discussion and update on status of sensors at 81 Mile Point.

iv. Discussion and update on status of Belmont and Bayou Goula Anchorages. These anchorages were proposed to increase available anchorage areas in the River to help accommodate increased vessel volume and improve navigational safety for vessels.

v. Discussion and update on status of Legislative Change Proposal to extend and align the LMRWSAC membership terms and charter.

(b) Army Corps of Engineers

i. Discussion and update on New Orleans area locks and Gulf Intracoastal Waterway (GIWW) operations as related to the Regulated Navigation Area (RNA); to include discussion of GIWW, Inner Harbor Navigation Canal (IHNC), Harvey Canal, Algiers Canal.

ii. Discussion and update on planned 2015 closure and dewatering of the IHNC Lock for installation of new replacement miter gates and gate operating machinery.

(c) National Oceanic and Atmospheric Association

i. Discussion and update on Mississippi River charts including revetments, anchorages, levees, and pipelines.

ii. Discussion and updates on Office of Coast Survey charting resources, movement to retire litho charts, and electronic chart resources.

iii. Discussion and update to the Lower Mississippi River Physical Oceanographic Real Time System (PORTS) and the post-construction clearance of the Huey Long Bridge.

iv. Review of navigation response resources and location and removal efforts for sunken vessel recovery in the Lower Mississippi River.

1. July 2013 sinking of tugboat C-PEC.

2. November 2013 sunken barge below Baton Rouge.

v. Hurricane Planning and Resources and Coordination.

1. Review of Tropical Storm Karen event.

(d) Southeast Louisiana Flood Protection

Authority—East and West

i. East

1. Update on operating procedures for Hurricane Storm Risk Reduction System gate closures in advance of storms.

2. Discussion of the procedures that will be used by Southeast Louisiana Flood Protection Authority—East to communicate and coordinate activities associated with navigational flood gate closures for both routine exercises and in response to tropical events.

ii. West

1. Discussion of the procedures that will be used by Southeast Louisiana Flood Protection Authority—West to communicate and coordinate activities associated with navigational flood gate closure for both routine exercises and in response to tropical events.

(5) New Business, to include discussion of:

(a) Proposed Liquefied Natural Gas (LNG) Terminals and waterway impacts.

(6) Old Business:

(a) Debrief of Huey P. Long Bridge expansion project.

(7) Public Comment period.

(8) Adjournment.

There will be a comment period for LMRWSAC and a comment period for the public after each deliberation and voting, but before each recommendation is formulated. The Committee will review the information presented on each issue, deliberate on any recommendations presented, and formulate recommendations for the Department's consideration. An opportunity for oral comments by the public will be provided during the meeting on April 23, 2014. Speakers are requested to limit their comments to three minutes. Please note that the public oral comment period may end before the end of the stated meeting time if the Committee has finished its business. Please contact Lieutenant Junior Grade Colin L. Marquis, listed in the FOR FURTHER INFORMATION CONTACT section, to register as a speaker.

Dated: March 18, 2014.
Kevin S. Cook,
Rear Admiral, U.S. Coast Guard, Commander, Eighth Coast Guard District.

[FR Doc. 2014-07602 Filed 4-4-14; 8:45 am]

BILLING CODE 9110-04-P